DEPARTMENT OF HEALTH AND HUMAN SERVICES

Centers for Medicare & Medicaid Services

[Document Identifier: CMS-10305]

Agency Information Collection Activities: Submission for OMB Review; Comment Request; Correction

AGENCY: Centers for Medicare & Medicaid Services (CMS), HHS.

ACTION: Notice, correction.

SUMMARY: On August 11, 2023, CMS published a notice in the Federal Register that sought comment on a collection of information concerning CMS-10305 (OMB control number 0938-1115) entitled “Medicare Part C and Part D Data Validation.” The point of contact for policy questions is incorrect. This document corrects the error.

FOR FURTHER INFORMATION CONTACT: William N. Parham, III, (410) 786-4669.

SUPPLEMENTARY INFORMATION:

I. Background

In the August 11, 2023, issue of the Federal Register (88 FR 54613), we published a Paperwork Reduction Act notice requesting a 30-day public comment period for the information collection request identified under CMS-10305, OMB control number 0938-1115, and titled “Medicare Part C and Part D Data Validation.”

II. Explanation of Error

In the August 11, 2023, notice, the point of contact for policy questions is incorrect. The incorrect language is on located at the top of the right column on page 54614, beginning on line 6 with “Chanelle Jones” and ending at the end of line 6. All of the other information contained in the August 11, 2023, notice is correct and remains unchanged. The related public comment period remains in effect and ends September 11, 2023.

III. Correction of Error

In FR Doc. 2023-16804 of August 11, 2023, (88 FR 54613), page 54614, the language at the top of the right column beginning on line 6 with “Chanelle Jones” and ending at the end of line 6, is corrected to read as follows:

Abigale Sanft at 410-786-6068.

Dated: August 21, 2023.
William N. Parham, III,
Director, Paperwork Reduction Staff, Office of Strategic Operations and Regulatory Affairs.

[FR Doc. 2023-18279 Filed 8-24-23; 8:45 am]

BILLING CODE 4120-01-P